DEPARTMENT OF TRANSPORTATION

National Highway Traffic Safety Administration

[Docket No. NHTSA-2014-0001; Notice 2]

Cooper Tire & Rubber Company, Grant of Petition for Decision of Inconsequential Noncompliance

AGENCY: National Highway Traffic Safety Administration (NHTSA), Department of Transportation (DOT).

ACTION: Grant of Petition.

SUMMARY: Cooper Tire & Rubber Company (Cooper), has determined that certain Cooper light truck tires do not fully comply with paragraph S6.4 of Federal Motor Tire Safety Standard (FMVSS) No. 119, New Pneumatic Tires for Motor Vehicles with a GVWR of more than 4,536 kilograms (10,000 pounds) and Motorcycles. Cooper has filed an appropriate report dated December 6, 2013 pursuant to 49 CFR part 573, Defect and Noncompliance Responsibility and Reports.

ADDRESSES: For further information on this decision contact Abraham Diaz, Office of Vehicle Safety Compliance, the National Highway Traffic Safety Administration (NHTSA), telephone (202) 366-5310, facsimile (202) 366-7002.

SUPPLEMENTARY INFORMATION:

I. Cooper's Petition: Pursuant to 49 U.S.C. 30118(d) and 30120(h) and the rule implementing those provisions at 49 CFR part 556, Cooper has petitioned for an exemption from the notification and remedy requirements of 49 U.S.C. Chapter 301 on the basis that this noncompliance is inconsequential to motor vehicle safety.

Notice of receipt of the petition was published, with a 30-day public comment period, on May 22, 2014 in the Federal Register (79 FR 29502). No comments were received. To view the petition, and all supporting documents log onto the Federal Docket Management System (FDMS) Web site at: http://www.regulations.gov/. Then follow the online search instructions to locate docket number “NHTSA-2014-0001.”

II. Tires Involved: Affected are approximately 83,343 Mickey Thompson Baja MTZ brand LT315/70R17 Load Range D Tubeless tires manufactured from January 28, 2006 through October 31, 2013.

III. Noncompliance: Cooper explains that the noncompliance is that, due to a molding error, the subject tires were manufactured with only five of the six treadwear indicators required by paragraph S6.4 of FMVSS No. 119.

IV. Rule Text: Paragraph S6.4 of FMVSS No. 119 requires in pertinent part:

S6.4 Treadwear Indicators. Except as specified in this paragraph, each tire shall have at least six treadwear indicators spaced approximately equally around the circumference of the tire that enable a person inspecting the tire to determine visually whether the tire has worn to a tread depth of 1.6 mm (one-sixteenth of an inch). . . .

V. Summary of Cooper's Analyses: Cooper believes that the subject noncompliance is inconsequential to motor vehicle safety because the absence of a single treadwear indicator has no practical effect on motor vehicle safety. Cooper supported this belief by stating that the presence of five of the six treadwear indicators provides ample coverage over the surface of the tire because consumers or technicians who attempt to inspect tread depth by relying on the treadwear indicators can easily see several of the indicators. In fact, when the vehicle is parked, only a small portion of the tread surface is not visible.

Therefore, Cooper believes that five treadwear indicators have an equivalent functionality of six indicators whether the tire is mounted on a vehicle or not.

Cooper also points out that NHTSA has previously granted other petitions that Cooper believes were similar to the subject petition.

Cooper has informed NHTSA that it has corrected the noncompliance so that all future production of these tires will comply with FMVSS No. 119.

In summation, Cooper believes that the described noncompliance of the subject tires is inconsequential to motor vehicle safety, and that its petition, to exempt Cooper from providing recall notification of noncompliance as required by 49 U.S.C. 30118 and remedying the recall noncompliance as required by 49 U.S.C. 30120 should be granted.

NHTSA Decision:

NHTSA Analysis: The purpose for tire treadwear indicators is to serve as a means for a person to visually inspect a tire's tread depth and readily determine if a tire has worn to the extent that tread depth is 1.6 mm (one-sixteenth of an inch) or less.

Cooper stated that while the subject tires were molded with only five treadwear indicators that it believes that those indicators still provide ample coverage over the surface of the tire.

NHTSA agrees with Cooper that in this case the subject noncompliance will have no significant effect on the safety of the vehicles on which the subject tires are mounted. The subject tires have five indicators; 4 indicators spaced at 60 degrees and one indicator spaced at 120 degrees. NHTSA believes that in this case the absence of a single indicator does not significantly affect a person's ability to visually inspect a tire and readily recognize when a significant portion of the tire's tread is warn to the point that a tire should be replaced.

NHTSA Decision: In consideration of the foregoing, NHTSA has decided that Cooper has met its burden of persuasion that the Cooper FMVSS No. 119 noncompliance is inconsequential to motor vehicle safety. Accordingly, Cooper's petition is hereby granted and Cooper is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant tires that Cooper no longer controlled at the time it determined that the noncompliance existed. However, the granting of this petition does not relieve vehicle distributors and dealers of the prohibitions on the sale, offer for sale, or introduction or delivery for introduction into interstate commerce of the noncompliant tires under their control after Cooper notified them that the subject noncompliance existed.

Authority: (49 U.S.C. 30118, 30120: delegations of authority at 49 CFR 1.95 and 501.8)

Jeffrey M. Giuseppe,
Acting Director, Office of Vehicle Safety Compliance.

[FR Doc. 2014-19602 Filed 8-18-14; 8:45 am]

BILLING CODE 4910-59-P